DEPARTMENT OF THE INTERIOR

Bureau of Indian Affairs

Advisory Board for Exceptional Children

AGENCY: Bureau of Indian Affairs, Interior.

ACTION: Notice of meeting; correction.

SUMMARY: The Bureau of Indian Education (BIE) published a document in the Federal Register of August 17, 2010, announcing that the Advisory Board for Exceptional Children (Advisory Board) will hold its next meeting in Washington, DC. The notice included an incorrect call-in number.

DATES: The Advisory Board will meet on Thursday, September 2, 2010, from 8:30 a.m. to 4:30 p.m.; Friday, September 3, 2010, from 8:30 a.m. to 4:30 p.m. and Saturday, September 4, 2010, from 8 a.m. to noon Eastern Time.

ADDRESSES: The Thursday, September 2, 2010, and Friday, September 3, 2010, meetings will be held at 1849 C Street, NW., MS-3609-Main Interior Building, Washington, DC 20240; telephone (202) 208-6123. The Saturday, September 4, meeting will be held at the J.W. Marriott Hotel, 1331 Pennsylvania Avenue, NW., Washington, DC 20004; telephone (202) 393-2000.

FOR FURTHER INFORMATION CONTACT: Sue Bement, Designated Federal Official, Bureau of Indian Education, Albuquerque Service Center, Division of Performance and Accountability, 1011 Indian School Road NW., P.O. Box 1088, Suite 332, Albuquerque, NM 87103; telephone number (505) 563-5274.

SUPPLEMENTARY INFORMATION: In the Federal Register of August 17, 2010, FR Doc. 2010-20293, on page 50780, in the second column, replace the call-in information with “Conference Number 1-888-417-0376, Passcode 1509140.” During the September 2, 2010, meeting, time has been set aside for public comment via conference call from 1-1:30 p.m. Eastern Time. Please use the conference number listed here.

Dated: August 25, 2010.
Donald Laverdure,
Deputy Assistant Secretary for Indian Affairs.

[FR Doc. 2010-21730 Filed 8-30-10; 8:45 am]

BILLING CODE 4310-6W-P